DEPARTMENT OF THE INTERIOR

National Park Service

Boston Harbor Islands National Recreation Area Advisory Council; Notice of Public Meeting

AGENCY: Department of the Interior, National Park Service, Boston Harbor Islands National Recreation Area.

ACTION: Notice of meeting.

SUMMARY: Notice is hereby given that Boston Harbor Islands National Recreation Area Advisory Council will hold a scoping meeting for the public on Wednesday, November 19, 2008, at 4:30 p.m. to 8 p.m. at Marriott's Custom House, 3 McKinley Square, Aruba Room, Boston, MA 02109.

The purpose of this meeting is to provide the public and interested agencies and organizations an opportunity to learn about a project to replace the existing pier on Georges Island and provide comments early in the project planning process. The meeting will be held in an open house format and will not include a scheduled presentation. The public is invited to visit at any point in the scheduled time to review the materials and comment.

The meeting will be open to the public. Comments regarding potential issues and concerns, alternatives, potential environmental impacts, and mitigation strategies that should be considered during the planning process are welcome. Comments can be provided at the meeting, by mail or online. Persons who wish to mail a written statement or who want further information concerning the meeting may contact Superintendent Bruce Jacobson at (617) 223-8667. To provide comments online, please go to the NPS Planning, Environment, and Public Comment (PEPC) Web site at: http://parkplanning.nps.gov/BOHA and follow the appropriate links to Georges Island—Evaluate and Design Hub Island Pier.

Commentators are asked to please note that their entire comment—including any personal identifying information, such as addresses, phone numbers, and e-mail addresses—may be made publicly available at any time. While reviewers can ask the NPS in their comment to withhold personal identifying information from public review, the NPS cannot guarantee that it will be able to do so.

DATES: November 19, 2008 from 4:30 p.m. to 8 p.m.

ADDRESSES: Marriott's Custom House, 3 McKinley Square, Aruba Room, Boston, MA 02109.

FOR FURTHER INFORMATION CONTACT: Superintendent Bruce Jacobson, (617) 223-8667.

SUPPLEMENTARY INFORMATION: The Advisory Council was appointed by the Director of National Park Service pursuant to Public Law 104-333. The 28 members represent business, educational/cultural, community and environmental entities; municipalities surrounding Boston Harbor; Boston Harbor advocates; and Native American interests. The purpose of the Council is to advise and make recommendations to the Boston Harbor Islands Partnership with respect to the development and implementation of a management plan and the operations of the Boston Harbor Islands NRA.

Dated: October 15, 2008.
Bruce Jacobson,
Superintendent, Boston Harbor Islands NRA.

[FR Doc. E8-25417 Filed 10-23-08; 8:45 am]

BILLING CODE 4310-86-P